INTERNATIONAL TRADE COMMISSION

Sunshine Act Meeting

Agency Holding the Meeting: International Trade Commission.

Time and Date: February 23, 2004, at 11 a.m.

Place: Room 101, 500 E Street, SW., Washington, DC 20436. Telephone: (202) 205-2000.

Status: Open to the public.

Matters to be Considered:

1. Agenda for future meetings: none.

2. Minutes.

3. Ratification list.

4. Inv. No. 731-TA-1069 (Preliminary) (Outboard Engines from Japan)—briefing and vote. (The Commission is currently scheduled to transmit its determination to the Secretary of Commerce on or before February 23, 2004; Commissioners' opinions are currently scheduled to be transmitted to the Secretary of Commerce on or before March 1, 2004.)

5. Outstanding action jackets: none.

In accordance with Commission policy, subject matter listed above, not disposed of at the scheduled meeting, may be carried over to the agenda of the following meeting.

By order of the Commission:

Issued: February 12, 2004.
Marilyn R. Abbott,
Secretary to the Commission.

[FR Doc. 04-3549 Filed 2-12-04; 4:50 pm]

BILLING CODE 7020-02-P